NUCLEAR REGULATORY COMMISSION

[Docket No. 50-407]

University of Utah; University of Utah TRIGA Nuclear Reactor Facility; Environmental Assessment and Finding of No Significant Impact

The U.S. Nuclear Regulatory Commission (NRC) is considering issuance of an exemption from certain requirements of Title 10 of the Code of Federal Regulations (10 CFR), subsection 2.109(a), for Facility Operating License No. R-126, which authorizes operation of the University of Utah TRIGA Nuclear Reactor Facility, a 100 kW (thermal) research reactor facility, located in Salt Lake County, Utah. Therefore, as required by 10 CFR 51.21, the NRC is issuing this environmental assessment and finding of no significant impact.

Environmental Assessment

Identification of the Proposed Action

Subsection 109(a) of 10 CFR Part 2 states, “Except for the renewal of an operating license for a nuclear power plant under 10 CFR 50.21(b) or 50.22, if, at least 30 days prior to the expiration of an existing license authorizing any activity of a continuing nature, the licensee files an application for a renewal or for a new license for the activity so authorized, the existing license will not be deemed to have expired until the application has been finally determined.”

The University of Utah has requested an exemption from the timing requirements of 10 CFR 2.109(a), for submittal of the University of Utah TRIGA Nuclear Reactor Facility license renewal application. The exemption would allow the submittal of the renewal application with less than 30 days remaining prior to expiration of the operating license while maintaining the protection of the timely renewal provision in 10 CFR 2.109(a).

The proposed action is in accordance with the licensee's application for exemption dated April 13, 2005.

The Need for the Proposed Action

Because the licensee has submitted their application for license renewal less than 30 days before the expiration date of the existing license (midnight April 17, 2005), the proposed action is needed to allow continued operation of the facility while the NRC staff makes a final determination regarding license renewal.

Environmental Impacts of the Proposed Action

The NRC has completed its evaluation of the proposed action and concludes that pursuant to 10 CFR 50.12(a), the proposed exemption is authorized by law, will not endanger life or property or common defense and security, and is, otherwise, in the public interest. In addition, special circumstances exist to justify the proposed exemption. The details of the staff's evaluation will be provided in the exemption that will be issued as part of the letter to the licensee approving the exemption to the regulation.

Because the proposed action would allow continued operation of the reactor facility under the current license conditions and technical specifications and will not authorize any changes to the facility or its operation, the proposed action will not significantly increase the probability or consequences of accidents. No changes are being made in the types of effluents that may be released offsite. There is no significant increase in the amount of any effluent release offsite. There is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC staff concludes that there are no significant environmental impacts associated with the proposed action.

Environmental Impacts of the Alternatives to the Proposed Action

As an alternative to the proposed action, the NRC staff considered denial of the proposed action (i.e., the “no-action” alternative). Denial of the application for exemption would result in a period of time where the licensee would not operate the reactor while the NRC staff reviewed the licensee's application for license renewal. There would be a small decrease in environmental impact during the period of time the reactor would be shut down and the benefits of education and research would be lost. The environmental impacts of the proposed action and the alternative action are similar.

Alternative Use of Resources

This proposed action does not involve the use of any resources not previously considered in environmental impact appraisal for initial facility license authorization dated September 30, 1975, and the environmental assessment for operating license renewal dated March 27, 1985.

Agencies and Persons Consulted

In accordance with its policy, on April 13, 2005, the NRC staff consulted with the Utah State official, Mr. Dane Finerfrock, Director, Division of Radiation Control, Department of Environmental Quality, regarding the environmental impact of the proposed action. The State official had no comments regarding the environmental aspects of the exemption.

Finding of No Significant Impact

On the basis of the environmental assessment, the NRC concludes that the proposed action will not have a significant effect on the quality of the human environment. Accordingly, the NRC has determined not to prepare an environmental impact statement for the proposed action.

For further details with respect to the proposed action, see the licensee's letter dated April 13, 2005. Documents may be examined, and/or copied for a fee, at the NRC's Public Document Room (PDR), located at One White Flint North, Public File Area O1F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or by e-mail to pdr@nrc.gov.

Dated at Rockville, Maryland, this 14th day of April, 2005.
For the Nuclear Regulatory Commission.
Patrick M. Madden,
Section Chief, Research and Test Reactors Section, New, Research and Test Reactors Program, Division of Regulatory Improvement Programs, Office of Nuclear Reactor Regulation.

[FR Doc. 05-7845 Filed 4-18-05; 8:45 am]

BILLING CODE 7590-01-P